NUCLEAR REGULATORY COMMISSION

Advisory Committee on the Medical Uses of Isotopes; Call for Nominations

AGENCY: Nuclear Regulatory Commission.

ACTION: Call for nominations.

SUMMARY: The U.S. Nuclear Regulatory Commission (NRC) is advertising for nominations for the position of Radiation Oncologist (Gamma Stereotactic Radiosurgery) on the Advisory Committee on the Medical Uses of Isotopes (ACMUI). Nominees should currently be practicing radiation oncology to include clinical use of the Gamma Knife® unit.

DATES: Nominations are due on or before April 3, 2018.

ADDRESSES: Submit an electronic copy of resume or curriculum vitae, along with a cover letter, to Ms. Sophie Holiday, sophie.holiday@nrc.gov. The cover letter should describe the nominee's current duties and responsibilities and express the nominee's interest in the position. Please ensure that resume or curriculum vitae includes the following information, if applicable: Education; certification; professional association membership and committee membership activities; duties and responsibilities in current and previous clinical, research, and/or academic position(s).

FOR FURTHER INFORMATION CONTACT: Ms. Sophie Holiday, U.S. Nuclear Regulatory Commission, Office of Nuclear Material Safety and Safeguard; (301) 415-7865; sophie.holiday@nrc.gov.

SUPPLEMENTARY INFORMATION: The ACMUI Gamma Stereotactic Radiosurgery (GSR) radiation oncologist provides advice on issues associated with radiation oncology and the clinical use of GSR. This advice includes providing input on NRC proposed rules and guidance documents, providing recommendations on the training and experience requirements for physicians specializing in this use, identifying medical events associated with this use, evaluating new models of GSR units, bringing key issues in the radiation oncology community to the attention of the NRC staff, and other radiation oncology issues as they relate to radiation safety and the NRC medical-use policy.

ACMUI members are selected based on their educational background, certification(s), work experience, involvement and/or leadership in professional society activities, and other information obtained in letters or during the selection process.

ACMUI members possess the medical and technical skills needed to address evolving issues. The current membership is composed of the following professionals: (a) Nuclear medicine physician; (b) nuclear cardiologist; (c) two radiation oncologists; (d) diagnostic radiologist; (e) therapy medical physicist; (f) nuclear medicine physicist; (g) nuclear pharmacist; (h) health care administrator; (i) radiation safety officer; (j) patients' rights advocate; (k) Food and Drug Administration representative; and (l) Agreement State representative.

The NRC is inviting nominations for the GSR radiation oncologist to the ACMUI. The term of the individual currently occupying this position will end October 17, 2018. ACMUI members currently serve a four-year term and may be considered for reappointment to an additional term.

Nominees must be U.S. citizens and be able to devote approximately 160 hours per year to ACMUI business. Members who are not Federal employees are compensated for their service. In addition, members are reimbursed for travel (including per-diem in lieu of subsistence) and are reimbursed secretarial and correspondence expenses. Full-time Federal employees are reimbursed travel expenses only.

Security Background Check: The selected nominee will undergo a thorough security background check. Security paperwork may take the nominee several weeks to complete. Nominees will also be required to complete a financial disclosure statement to avoid conflicts of interest.

Dated at Rockville, Maryland, this 29th day of January, 2018.
For the Nuclear Regulatory Commission.
Russell E. Chazell,
Advisory Committee Management Officer.

[FR Doc. 2018-02072 Filed 2-1-18; 8:45 am]

BILLING CODE 7590-01-P